NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 13, 2005 from 10 a.m. to 11 a.m.

ADDRESSES: The U.S. Capitol Building, Room H-137, Washington, DC.

FOR FURTHER INFORMATION CONTACT: Richard H. Hunt, Director; Center for Legislative Archives; (202) 501-5350.

SUPPLEMENTARY INFORMATION:

Agenda

Capitol Visitor Center Update on Exhibitry/Construction; Association of Centers for the Study of Congress; Institute on the Teaching of Congress and the Presidency; Web Harvest; Fourth Advisory Committee on the Records of Congress Report; Activities Report of the Center for Legislative Archives; Other current issues and new business.

The meeting is open to the public.

Dated: May 23, 2005.
Mary Ann Hadyka,
Committee Management Officer.

[FR Doc. 05-10628 Filed 5-26-05; 8:45 am]

BILLING CODE 7515-01-P